ENVIRONMENTAL PROTECTION AGENCY

[FRL-7647-8]

EPA National Advisory Council for Environmental Policy and Technology—Compliance Assistance Advisory Committee; Notification of Public Advisory Committee Teleconference Meeting

AGENCY: Environmental Protection Agency (EPA).

ACTION: Notification of Public Advisory Committee Teleconference Meeting.

SUMMARY: Pursuant to the Federal Advisory Committee Act, Pub. L. 92-463, notice is hereby given that the Compliance Assistance Advisory Committee (CAAC) under the National Advisory Council for Environmental Policy and Technology (NACEPT) will meet in a public teleconference on Monday, May 10, 2004, from 1 p.m. to 3 p.m. eastern time. The meeting will be hosted out of Conference Room #6148, U.S. EPA, Ariel Rios Federal Building, 1200 Pennsylvania Avenue, NW., Washington, DC 20004. The meeting is open to the public, however, due to limited space, seating will be on a registration-only basis. For further information regarding the teleconference meeting, or how to register and obtain the phone number, please contact the individuals listed below.

Background: NACEPT is a federal advisory committee under the Federal Advisory Committee Act, Pub. L. 92-463. NACEPT provides advice and recommendations to the Administrator and other EPA officials on a broad range of domestic and international environmental policy issues. NACEPT consists of a representative cross-section of EPA's partners and principle constituents who provide advice and recommendations on policy issues and serves as a sounding board for new strategies that the Agency is developing. Additional information concerning the NACEPT can be found on our Web site (http://www.epa.gov/ocem). The CAAC, a subcommittee of NACEPT, provides a Federal advisory forum from which the Agency can receive valuable multi-stakeholder advice and recommendations on enhancing EPA's compliance assistance program. Purpose of Meeting: The CAAC will review and comment on the work done to date on: (1) Strengthening the national compliance assistance network; (2) developing and testing performance measurement systems to demonstrate the effectiveness of compliance assistance; and (3) integration of compliance assistance into policies and practices of EPA and compliance assistance providers.

FOR FURTHER INFORMATION CONTACT: Members of the public wishing to gain access to the conference room on the day of the meeting or to obtain the teleconference phone number must contact Ms. Joanne Berman, Designated Federal Officer for the CAAC, U.S. Environmental Protection Agency (2224A), Office of Enforcement and Compliance Assurance, 1200 Pennsylvania Avenue, NW., Washington, DC 20460; telephone/voice mail at (202) 564-7064, fax at (202) 564-7083; or via e-mail at berman.joanne@epa.gov. The agenda and materials for the meeting will be available to the public upon request. Written comments from the public are welcome before, during or after the meeting. Individuals requiring special accommodation at this meeting, including wheelchair access to the conference room, should contact Ms. Berman at least five business days prior to the meeting so that appropriate arrangements can be made.

Dated: April 9, 2004.
Michael M. Stahl,
Director, Office of Compliance.

[FR Doc. 04-8575 Filed 4-14-04; 8:45 am]

BILLING CODE 6560-50-P